NATIONAL FOUNDATION ON THE ARTS AND THE HUMANITIES

Institute of Museum and Library Services

Submission for OMB Review, Comment Request, Proposed Collection Requests: Evaluation and Learning for IMLS's Applying Promising Practices for Small and Rural Libraries (APP) Program

AGENCY: Institute of Museum and Library Services, National Foundation on the Arts and the Humanities.

ACTION: Submission for OMB Review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. The purpose of this Notice is to solicit comments about this assessment process, instructions, and data collections.

A copy of the proposed information collection request can be obtained by contacting the individual listed below in the ADDRESSES section of this notice.

DATES: Written comments must be submitted to the office listed in the FOR FURTHER INFORMATION CONTACT section below on or before November 2, 2020.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, 202-395-7316.

FOR FURTHER INFORMATION CONTACT: Dr. Marvin Carr, Institute of Museum and Library Services, 955 L'Enfant Plaza North SW, Suite 4000, Washington, DC 20024-2135. Dr. Carr can be reached by Telephone: 202-653-4752, or by email at mcarr@imls.gov, or by teletype (TTY/TDD) for persons with hearing difficulty at 202-653-4614.

SUPPLEMENTARY INFORMATION:

The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: The Applying Promising Practices for Small and Rural Libraries (APP) program is a special initiative, funded through the IMLS Office of Library Services. The goal of this initiative is to support projects that strengthen the ability of small and rural libraries and archives to serve their communities in the areas of digital inclusion, community memory, and school library practice.

The agency seeks to undertake a systematic assessment to better understand the methods for building the capacity of these small and rural libraries and archives to serve their communities. The proposed evaluation approach is intended to provide a reasonable balance between scientific considerations for valid and reliable evidence and stakeholder utilization of the acquired knowledge. This investigation is intended to inform IMLS decision-making for current and future grant-making in this grant program, as well as practices in this segment of the library sector.

This action is to seek approval for the information collection for the Evaluation and Learning for IMLS's Applying Promising Practices for Small and Rural Libraries (APP) program for the next three years.

The 60-day notice for the Evaluation and Learning for IMLS's Applying Promising Practices for Small and Rural Libraries (APP) Program, was published in the Federal Register on February 25, 2020 (85 FR 10728-10729). One comment was received.

Agency: Institute of Museum and Library Services.

Title: Evaluation and Learning for IMLS's Applying Promising Practices for Small and Rural Libraries (APP) program.

OMB Number: 3137-NEW.

Agency Number: 3137.

Affected Public: Federal, State and local governments, museums, libraries, and institutions of higher education.

Number of Respondents: 339.

Frequency: Once.

Burden Hours per Respondent: 0.746.

Total Burden Hours: 189.

Total Annual Cost: $591,60.

Total Federal Costs: $627,038.

Dated: September 30, 2020.
Kim Miller,
Senior Grants Management Specialist, Institute of Museum and Library Services.

[FR Doc. 2020-21923 Filed 10-2-20; 8:45 am]

BILLING CODE 7036-01-P